DEPARTMENT OF JUSTICE

Drug Enforcement Administration

[Docket No. DEA-607]

Bulk Manufacturer of Controlled Substances Application: Pisgah Laboratories, Inc.

ACTION: Notice of application.

DATES: Registered bulk manufacturers of the affected basic class(es), and applicants therefore, may file written comments on or objections to the issuance of the proposed registration on or before May 26, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on February 3, 2020, Pisgah Laboratories, Inc., 3222 Old Hendersonville Highway, Pisgah Forest, North Carolina 28768 applied to be registered as a bulk manufacturer of the following basic class(es) of controlled substances:

Controlled substance | Drug code | Schedule
Difenoxin | 9168 | I
Diphenoxylate | 9170 | II
Levorphanol | 9220 | II
Meperidine intermediate-B | 9233 | II

The company plans to manufacture the above-listed controlled substances in bulk for distribution to its customers.

Dated: March 12, 2020.
William T. McDermott,
Assistant Administrator.

[FR Doc. 2020-06168 Filed 3-23-20; 8:45 am]

BILLING CODE 4410-09-P